DEPARTMENT OF THE INTERIOR

Fish and Wildlife Service

[FWS-R2-ES-2009-N192; 20124-1112-0000-F2]

Comal County Regional Habitat Conservation Plan, Comal County, TX

AGENCY: Fish and Wildlife Service, Interior.

ACTION: Notice of availability: draft environmental impact statement, draft habitat conservation plan, and permit application; announcement of a public hearing.

SUMMARY: Comal County, Texas (Applicant), has applied to the U.S. Fish and Wildlife Service (Service) for an incidental take permit (TE-223267-0) under section 10(a)(1)(B) of the Endangered Species Act (Act) of 1973, as amended. The requested permit, which would be in effect for a period of 30 years, if granted, would authorize incidental take of the following federally listed species: Golden-cheeked warbler (Dendroica chrysoparia) and black-capped vireo (Vireo atricapilla). The proposed take would occur in Comal County, Texas, as a result of activities including, but not limited to: Public or private construction and development, utility installation and maintenance, and public infrastructure projects. Comal County has completed a draft Habitat Conservation Plan (dHCP) as part of the application package. We have issued a draft Environmental Impact Statement (dEIS) that evaluates the impacts of, and alternatives to, possible issuance of an incidental take permit (ITP).

DATES: Comment-period end: To ensure consideration, we must receive written comments by close of business (4:30 p.m. CDT) on or before September 1, 2010.

Public meetings: We will accept oral and written comments at a public hearing to be held on July 27, 6 p.m. to 8 p.m., Comal County Commissioners Court, 199 Main Plaza, New Braunfels, Texas 78130.

ADDRESSES: For where to review documents and submit comments, and the public meeting location, see Reviewing Documents and Submitting Comments in SUPPLEMENTARY INFORMATION.

FOR FURTHER INFORMATION CONTACT: Mr. Adam Zerrenner, Field Supervisor, U.S. Fish and Wildlife Service, 10711 Burnet Road, Suite 200, Austin, TX 78758 or 512-490-0057.

SUPPLEMENTARY INFORMATION: Under the National Environmental Policy Act (NEPA; 42 U.S.C. 4371 et seq.), this notice advises the public that we have gathered the information necessary to determine impacts and formulate alternatives for the EIS related to the potential issuance of an ITP to Comal County; and that the Applicant has developed an HCP which describes the measures the applicant has agreed to undertake to minimize and mitigate the effects of incidental take of federally listed species to the maximum extent practicable, under section 10(a)(1)(B) of the Act (16 U.S.C. 1531 et seq.).

Background

Our initial notice of intent to prepare an EIS and hold public scoping meetings published in the Federal Register on October 16, 2008 (73 FR 61433). A public scoping meeting was held on December 4, 2008, at Commissioners Court in New Braunfels, Texas. The dHCP and the conservation programs described in the plan were developed in a process involving participants and stakeholders from potentially affected or interested groups in Comal County. The groups are organized into a Citizens Advisory Committee and a Biological Advisory Team that have overseen the development of the dHCP. The Comal County Web site contains information on meetings, documents, and the status of the process.

Section 9 of the Act and its implementing regulations prohibit the “taking” of threatened and endangered species. However, under limited circumstances, we may issue permits to take listed wildlife species incidental to, and not the purpose of, otherwise lawful activities.

Proposed Action

The proposed action involves the issuance of an ITP by the Service for covered activities in Comal County, under section 10(a)(1)(B) of the Act. The activities that would be covered by the ITP are public or private construction and development, utility installation and maintenance (including, but not limited to, power and cable stations, substations, and transmission lines; water, sewer, and natural gas pipelines; and plants and other facilities), and public infrastructure projects such as school development, road construction and maintenance, and parkland. The ITP will cover Comal County, Texas. The requested term of the permit is 30 years. To meet the issuance criteria for an ITP, the Applicant has developed and will implement the dHCP, which describes the conservation measures the Applicant has agreed to undertake to minimize the potential for and mitigate the potential effects of incidental take of golden-cheeked warbler and black-capped vireo to the maximum extent practicable.

Alternatives

The alternatives to the proposed action we are considering as part of this process are:

1. No Action—A countywide HCP would not be implemented, and no ITP would be issued. This alternative would require individuals to seek authorization through section 7 consultation or individual section 10 permits to address incidental take resulting from their actions in Comal County or avoid taking actions that would result in incidental take.

2. Modified (Reduced Take and Mitigation) HCP—This alternative would only cover take of the golden-cheeked warbler, and the amount of authorized take and mitigation would be reduced for this species.

3. Preferred Alternative (Proposed Comal County RHCP)—This alternative would involve issuance of a 10(a)(1)(B) permit covering impacts to 5,238 acres of golden-cheeked warbler habitat and 1,000 acres of black-capped vireo habitat.

Reviewing Documents and Submitting Comments

Please refer to TE-223267-0 when requesting documents or submitting comments.

You may obtain copies of the dEIS and dHCP by going to the Comal County Web site at http://www.co.comal.tx.us/comalrhcp/default.htm. Alternatively, you may obtain compact disks with electronic copies of these documents by contacting Mr. Adam Zerrenner, Field Supervisor, by U.S. mail at U.S. Fish and Wildlife Service, 10711 Burnet Road, Suite 200, Austin, TX 78758; or by phone at 512/490-0057; or by fax to 512/490-0974. A limited number of printed copies of the dEIS and dHCP are also available, by request, from Mr. Zerrenner. Copies of the dEIS and dHCP are also available for public inspection and review at the following locations (by appointment only at government offices):

• Department of the Interior, Natural Resources Library, 1849 C. St., NW., Washington, DC 20240.

• U.S. Fish and Wildlife Service, 500 Gold Avenue, SW., Room 4012, Albuquerque, NM 87102.

• U.S. Fish and Wildlife Service, 10711 Burnet Road, Suite 200, Austin, TX 78758.

Persons wishing to review the application may obtain a copy by contacting Mr. Adam Zerrenner, Field Supervisor, by U.S. mail at U.S. Fish and Wildlife Service, 10711 Burnet Road, Suite 200, Austin, TX 78758; or by phone at 512/490-0057; or by fax to 512/490-0974.

Public Meeting

We will accept oral and written comments at a public hearing to be held on July 27, 2010, 6 p.m. to 8 p.m., Comal County Commissioners Court, 199 Main Plaza, New Braunfels, Texas 78130.

Submitting Comments

Written comments may be submitted to Mr. Adam Zerrenner (see FOR FURTHER INFORMATION CONTACT). We will also accept written and oral comments at a public hearing (see DATES).

Public Availability of Comments

Written comments we receive become part of the public record associated with this action. Before including your address, phone number, e-mail address, or other personal identifying information in your comment, you should be aware that your entire comment—including your personal identifying information—may be made publicly available at any time. While you can request in your comment that we withhold your personal identifying information from public review, we cannot guarantee that we will be able to do so.

Authority

We provide this notice under section 10(c) of the Act (16 U.S.C. 1531 et seq.) and its implementing regulations (50 CFR 17.22) and NEPA (42 U.S.C. 4371 et seq.) and its implementing regulations (40 CFR 1506.6).

Brian Millsap,
Acting Regional Director, Southwest Region, Albuquerque, New Mexico.

[FR Doc. 2010-13294 Filed 6-2-10; 8:45 am]

BILLING CODE 4310-55-P